DEPARTMENT OF HEALTH AND HUMAN SERVICES

Administration for Children and Families

Proposed Information Collection Activity; Comment Request

Proposed Projects: Title: Implementation of the Head Start National Reporting System on Child Outcomes.

OMB No.: New collection.

Description: The Administration on Children, Youth and Families (ACYF), Administration for Children and Families (ACF) of the Department of Health and Human Services (DHHS) is requesting comments on plans to implement the Head Start National Reporting System on Child Outcomes. This implementation is being conducted to collect child outcomes information that will be used to enhance Head Start program quality and accountability.

The Head Start National Reporting System (HSNRS) has three major goals. First, the HSNRS will provide teachers and local programs with additional information regarding child progress by reporting on how children are doing at the beginning and end of the program in a limited number of areas. Second, the HSNRS will create a new national system of data on child outcomes from every local Head Start agency for use in planning targeted training and technical assistance services to strengthen program effectiveness. Third, the HSNRS child outcomes information will be used within Head Start Bureau monitoring of local Head Start agencies, to strengthen program accountability for outcomes.

This effort will ensure that every Head Start program will assess in a consistent fashion the progress made by every child in a limited set of early literacy, language, and numeracy skills. All Head Start children who are 4 years old or older will be administered a direct child assessment twice a year, the data analyzed, and the findings reported to the Head Start Bureau, ACF Regional Offices and local Head Start agencies. The HSNRS assessment is designed to create aggregate data on the progress of groups of children at the center and program levels. It is not designed to report on the school readiness of individual Head Start children.

Respondents: Head Start children and Head Start staff.

Annual Burden Estimates: Estimated Response Burden for Respondents to the Full National Implementation of the Head Start National Reporting System on Child Outcomes.

Estimated Annual Response Burden for Respondents To Implement the Head Start National Reporting System on Child Outcomes
Respondents and activities | Number of respondents | Number of responses per respondent | Average burden hours per response | Total burden hours
Head Start Children: Complete Direct Assessments | 500,000 | 2 | ⅓ | 333,333
Head Start Staff: Administer Direct Assessments | 36,000 | 17×2 | ⅓ | 408,000
Head Start Staff: Enter Child Demographic Information | 36,000 | 17 | 1/30 | 20,400
Head Start Staff: Enter Teacher Background Information | 36,000 | 1 | 1/60 | 600
Head Start Staff: Participating in Summer Training | 3,000 | 1 | 24 | 72,000
Head Start Staff: Training Local Assessors for the Direct Child Assessment | 3,000 | 1 | 20 | 60,000
Head Start Staff: Receiving Training for the Direct Child Assesssments | 36,000 | 1 | 8 | 288,000
Head Start Local Training Staff: Fall Implementation Evaluation Form | 3,000 | 2 | 1/12 | 500
Head Start Local Program Staff: Focus Groups | 600 | 2 | 1 | 1,200
Head Start Local Program Staff: Interview | 180 | 2 | 1 | 360
Spring Refresher Training (Home Study): Trainers | 3,000 | 1 | 8 | 24,000
Spring Refresher Training (Home Study): Assessors | 36,000 | 1 | 4 | 144,000
Totals Annualized |  |  |  | 1,352,393

In compliance with the requirements of Section 3506(c)(2)(A) of the Paperwork Reduction Act of 1995, the Administration for Children and Families is soliciting public comment on the specific aspects of the information collection described above. Copies of the proposed collection of information can be obtained and comments may be forwarded by writing to the Administration for Children and Families, Head Start Bureau, 330 C Street, SW., Room 2010, Switzer Building, Washington, DC 20447, Attn: Tom Schultz, by e-mail to tschultz@acf.dhhs.gov, or by telephone at 202-205-8323. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: April 8, 2003.
Bob Sargis,
Reports Clearance Officer.

[FR Doc. 03-9086 Filed 4-10-03; 8:45 am]

BILLING CODE 4184-01-M